DEPARTMENT OF TRANSPORTATION

Federal Aviation Administration

14 CFR Part 39

[Docket No. FAA-2011-1167; Directorate Identifier 2011-NM-058-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for certain Airbus Model A319 and A320 series airplanes. That NPRM proposed to require modification of the off-wing escape slide (OWS) enclosures on both sides. That NPRM was prompted by a report of a torn out aspirator due to the aspirator interfering with the extrusion lip of the OWS enclosure during the initial stage of the deployment sequence. This action revises that NPRM by adding an airplane model to the applicability. We are proposing this AD to prevent both off-wing exits from being inoperative, which, during an emergency, would impair the safe evacuation of occupants, possibly resulting in personal injuries. Since this action imposes an additional burden over that proposed in the NPRM, we are reopening the comment period to allow the public the chance to comment on these proposed changes.

DATES: We must receive comments on this proposed AD by July 26, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2011-1167; Directorate Identifier 2011-NM-058-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier NPRM for the specified products, which was published in the Federal Register on November 2, 2011 (76 FR 67625). That earlier NPRM proposed to require actions intended to address the unsafe condition for certain Airbus Model A319 and A320 series airplanes.

Comments

We have considered the following comment received on the earlier NPRM (76 FR 67625, November 2, 2011).

Request To Revise the Applicability of the NPRM (76 FR 67625, November 2, 2011)

Airbus requested we revise the applicability of the NPRM (76 FR 67625, November 2, 2011) to include Model A318 series airplanes, which would match the applicability specified in EASA Airworthiness Directive (AD) 2010-0210, dated October 21, 2010 (corrected October 27, 2010). Airbus stated that the applicability of the EASA AD identifies all airplane models that have been certified with the capability to be fitted with Air Cruisers/Aerazur part number (P/N) D31865-109, -110, -209, or -210 OWS, which are the only OWS affected by the identified unsafe condition.

Airbus added that some airplanes that were delivered with Airbus Modification 30088 and are currently in service could be fitted with one of those four OWS by the time the FAA AD becomes effective, and this explains why Model A318 series airplanes were included in the applicability of the EASA AD despite the fact that no Model A318 series airplane was delivered with an affected OWS. Airbus noted that the reason Model A318 series airplanes were not included in the Airbus service information is because its effectivity is based on aircraft configuration at the time of production delivery.

We concur with the commenter's request. For the reasons provided by the commenter, we have revised paragraph (c) of this supplemental NPRM to include Model A318 series airplanes and to remove the reference to airplanes delivered with Airbus Modification 30088.

Request To Revise Paragraph (h) of the NPRM (76 FR 67625, November 2, 2011)

Airbus noted that paragraph (h) of the NPRM (76 FR 67625, November 2, 2011) is more restrictive than the equivalent paragraphs in the EASA AD.

We agree. We find that paragraph (h) of the NPRM (76 FR 67625, November 2, 2011) need not be more restrictive than that of the EASA AD with regard to the time for allowing spare parts to be installed. We have revised that paragraph to prohibit installation of spare parts “after accomplishing the modification required by paragraph (g) of this AD.” However, paragraph (4) of EASA AD 2010-0210, dated October 21, 2010 (corrected October 27, 2010), does not apply to the airplanes identified in the applicability of this supplemental NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the earlier NPRM (76 FR 67625, November 2, 2011). As a result, we have determined that it is necessary to reopen the comment period to provide additional opportunity for the public to comment on this proposed AD.

Costs of Compliance

Based on the service information, we estimate that this proposed AD would affect about 694 products of U.S. registry. We also estimate that it would take about 14 work-hours per product to comply with the basic requirements of this proposed AD. The average labor rate is $85 per work-hour. Required parts would cost about $0 per product. Where the service information lists required parts costs that are covered under warranty, we have assumed that there will be no charge for these parts. As we do not control warranty coverage for affected parties, some parties may incur costs higher than estimated here. Based on these figures, we estimate the cost of the proposed AD on U.S. operators to be $825,860, or $1,190 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

AIRBUS: Docket No. FAA-2011-1167; Directorate Identifier 2011-NM-058-AD.

(a) Comments Due Date

We must receive comments by July 26, 2012.

(b) Affected ADs

None.

(c) Applicability

This AD applies to Airbus Model A318-111, -112, -121, and -122 airplanes; A319-111, -112, -113, -114, -115, -131, -132, and -133 airplanes; and Model A320-111, -211, -212, -214, -231, -232, and -233 airplanes; certificated in any category; all manufacturer serial numbers; except for airplanes on which off-wing escape slides (OWS) having part numbers (P/N) D31865-111 and P/N D31865-112 are installed.

(d) Subject

Air Transport Association (ATA) of America Code 25: Equipment/Furnishings.

(e) Reason

This AD was prompted by a report of a torn out aspirator due to the aspirator interfering with the extrusion lip of the OWS enclosure during the initial stage of the deployment sequence. We are issuing this AD to prevent both off-wing exits from being inoperative, which, during an emergency, would impair the safe evacuation of occupants, possibly resulting in personal injuries.

(f) Compliance

You are responsible for having the actions required by this AD performed within the compliance times specified, unless the actions have already been done.

(g) Modification

Within 36 months after the effective date of this AD, modify both left-hand and right-hand OWS enclosures, in accordance with the instructions in Airbus Service Bulletin A320-25-1649, dated February 16, 2010.

(h) Parts Installation

After accomplishing the modification required by paragraph (g) of this AD, no person may install an OWS having P/N D31865-109, P/N D31865-110, P/N D31865-209, or P/N D31865-210 on that airplane.

(i) Other FAA AD Provisions

The following provisions also apply to this AD:

(1) Alternative Methods of Compliance (AMOCs):

The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product:

For any requirement in this AD to obtain corrective actions from a manufacturer or other source, use these actions if they are FAA-approved. Corrective actions are considered FAA-approved if they are approved by the State of Design Authority (or their delegated agent). You are required to assure the product is airworthy before it is returned to service.

(j) Related Information

Refer to MCAI European Aviation Safety Agency (EASA) Airworthiness Directive 2010-0210, dated October 21, 2010 (corrected October 27, 2010); and Airbus Service Bulletin A320-25-1649, dated February 16, 2010; for related information.

Issued in Renton, Washington, on May 31, 2012.
Michael Kaszycki,
Acting Manager, Transport Airplane Directorate, Aircraft Certification Service.

[FR Doc. 2012-14068 Filed 6-8-12; 8:45 am]

BILLING CODE 4910-13-P